ENVIRONMENTAL PROTECTION AGENCY

[FRL-9956-34-Region 2]

Proposed CERCLA Section 122(h) Cost Recovery Settlement for the Columbia Smelting and Refining Works Site, Brooklyn, Kings County, New York

AGENCY: Environmental Protection Agency (EPA).

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of a proposed cost recovery settlement agreement pursuant to Section 122(h) of CERCLA, 42 U.S.C. 9622(h), with the City of New York (the “Settling Party”) for the Columbia Smelting and Refining Works Site (“Site”) in Brooklyn, Kings County, New York. The Site is a “facility” as defined by Section 101(9) of CERCLA, 42 U.S.C. 9601(9).

The Site is composed of (1) Red Hook Recreation Area Ball Field Numbers 5, 6, 7, and 8 (“Ball Fields 5-8”); (2) areas surrounding Ball Fields 5-8 where grass is planted (referred to as “Planting Strips”); (3) Red Hook Recreation Area Ball Field Number 9 (“Ball Field 9”); (4) the Ball Field 9 Planting Strips; (5) the sidewalks bordering the Ball Fields 5-8 Planting Strips and the Ball Field 9 Planting Strips; and (6) any other areas that have been impacted by the historic operations of the former Columbia Smelting and Refining Works facility. Ball Fields 5-8 and the Ball Fields 5-8 Planting Strips, collectively, comprise approximately 4.17 acres and are located on Block 581, Lot 1 of the Tax Map of Kings County, New York, bordered on the north by Lorraine Street, on the east by Henry Street, on the south by Bay Street, and on the west by Hicks Street. Ball Field 9 and the Ball Field 9 Planting Strips, collectively, comprise approximately 3.4 acres and are bordered on the north by Bay Street, on the east by Soccer Field #2, on the south by Halleck Street, and on the west by a track surrounding Soccer Field #3, located generally in the vicinity of Block 614, Lot 300 and Block 602, Lot 1 of the Tax Map of Kings County, New York. Settling Party is the current owner of the Site.

The Settling Party agrees to pay EPA $395,105.40 in reimbursement of past response costs related to the performance of work performed by EPA at the Site.

The settlement includes a covenant by EPA not to sue or to take administrative action against the Settling Party pursuant to Section 107(a) of CERCLA, 42 U.S.C. 9607(a), with regard to the response costs related to work performed at the Site. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region II, 290 Broadway, New York, New York 10007-1866.

DATES: Comments must be submitted on or before January 11, 2017.

ADDRESSES: The proposed settlement is available for public inspection at EPA Region II offices at 290 Broadway, New York, New York 10007-1866. Comments should reference the Columbia Smelting and Refining Works Site, Index No. CERCLA-02-2016-2018. To request a copy of the proposed settlement agreement, please contact the EPA employee identified below.

FOR FURTHER INFORMATION CONTACT: Andrew Praschak, Assistant Regional Counsel, New York/Caribbean Superfund Branch, Office of Regional Counsel, U.S. Environmental Protection Agency, 290 Broadway—17th Floor, New York, New York 10007-1866. Email: praschak.andrew@epa.gov. Telephone: 212-637-3172.

Dated: November 21, 2016.
Walter Mugdan,
Director, Emergency and Remedial Response Division, U.S. Environmental Protection Agency.

[FR Doc. 2016-29745 Filed 12-9-16; 8:45 am]

BILLING CODE 6560-50-P